DEPARTMENT OF COMMERCE

International Trade Administration

[A-570-832]

Pure Magnesium From the People's Republic of China: Rescission of Antidumping Duty Administrative Review

AGENCY: Import Administration, International Trade Administration, Department of Commerce.

DATES: August 26, 2011.

SUMMARY: On June 28, 2011, the U.S. Department of Commerce (“the Department”) published a notice of initiation of an administrative review of the antidumping duty order on pure magnesium from the People's Republic of China (“PRC”).¹ The review covers one manufacturer/exporter of subject merchandise from the PRC, Tianjin Magnesium International Co., Ltd. (“TMI”). The period of review (“POR”) is May 1, 2010 through April 30, 2011. Following the receipt of a certification of no shipments from TMI, we notified all interested parties of the Department's intent to rescind this review and provided an opportunity to comment on the rescission.² We received no comments. Therefore, we are rescinding this administrative review.

¹ See Initiation of Antidumping and Countervailing Duty Administrative Reviews and Request for Revocation in Part, 76 FR 37781 (June 28, 2011) (“Initiation”).

² See Memorandum to the File, “Pure Magnesium from the People's Republic of China: Intent to Rescind the 2010-2011 Antidumping Duty Administrative Review of Pure Magnesium from the People's Republic of China—A-570-832,” dated July 22, 2011 (“Intent to Rescind Memorandum”).

FOR FURTHER INFORMATION CONTACT: Laurel LaCivita, AD/CVD Operations, Office 8, Import Administration, International Trade Administration, U.S. Department of Commerce, 14th Street and Constitution Avenue, NW., Washington, DC 20230; telephone: (202) 482-4243.

SUPPLEMENTARY INFORMATION:

Background

On May 2, 2011, the Department published a notice of opportunity to request an administrative review of the antidumping duty order on pure magnesium from the PRC for the period May 1, 2010 through April 30, 2011.³ On May 31, 2011, U.S. Magnesium LLC (“U.S. Magnesium”), a domestic producer and Petitioner in the underlying investigation of this case, made a timely request that the Department conduct an administrative review of TMI and a number of other companies.⁴ On June 9, 2011, the Department requested Petitioner to clarify its request for review, by identifying the exporters of the subject merchandise.⁵ On June 13, 2011, Petitioner withdrew its request for review for all companies except TMI.⁶ On June 29, 2011, in accordance with section 751(a) of the Tariff Act of 1930, as amended (“the Act”), the Department published in the Federal Register a notice of initiation of this antidumping duty administrative review.⁷ On June 30, 2011, TMI submitted a letter to the Department certifying that it did not export pure magnesium for consumption in the United States during the POR.⁸

³ See Antidumping or Countervailing Duty Order, Finding, or Suspended Investigation; Opportunity To Request Administrative Review, 76 FR 24458 (May 2, 2011).

⁴ See letter from U.S. Magnesium, “Pure Magnesium from the People's Republic of China: Request for Administrative Reviews,” dated May 31, 2011.

⁵ See Memorandum to the File, “Pure Magnesium from the People's Republic of China: Clarification With Respect to Petitioner's Request for Review in the 2010-2011 Review,” dated June 9, 2011.

⁶ See letter from U.S. Magnesium, “Pure Magnesium from the People's Republic of China: Partial Withdrawal of Request for Administrative Review,” dated June 13, 2011.

⁷ See Initiation, 76 FR at 37785.

⁸ See letter from TMI, “Pure Magnesium from the People's Republic of China; A-570-832; Certification of No Sales by Tianjin Magnesium International Co., Ltd.,” dated June 30, 2011.

On July 6, 2011, the Department placed on the record information obtained in response to the Department's query to U.S. Customs and Border Protection (“CBP”) concerning imports into the United States of subject merchandise during the POR.⁹ These data indicate that TMI made no entries of subject merchandise during the POR.¹⁰ In addition, on July 11, 2011, we notified Customs that we were in receipt of a no-shipment certification from TMI and requested CBP to report any contrary information within 10 days.¹¹ CBP did not report any contrary information.

⁹ See Memorandum to the File, “Pure Magnesium from the People's Republic of China; Transmittal of U.S. Customs and Border Protection Information to the File,” dated July 6, 2011, at Attachment I.

¹⁰ Id.

¹¹ See CBP message number 1192302, “No Shipments Inquiry Re: Pure Magnesium From The People's Republic Of China (A-570-8326),” dated July 11, 2011.

On July 22, 2011, the Department notified interested parties of its intent to rescind this administrative review and gave parties until August 5, 2011, to provide comments. We did not receive any comments.

Scope of the Order

Merchandise covered by the order is pure magnesium regardless of chemistry, form or size, unless expressly excluded from the scope of the order. Pure magnesium is a metal or alloy containing by weight primarily the element magnesium and produced by decomposing raw materials into magnesium metal. Pure primary magnesium is used primarily as a chemical in the aluminum alloying, desulfurization, and chemical reduction industries. In addition, pure magnesium is used as an input in producing magnesium alloy. Pure magnesium encompasses products (including, but not limited to, butt ends, stubs, crowns and crystals) with the following primary magnesium contents:

(1) Products that contain at least 99.95% primary magnesium, by weight (generally referred to as “ultra pure” magnesium);

(2) Products that contain less than 99.95% but not less than 99.8% primary magnesium, by weight (generally referred to as “pure” magnesium); and

(3) Products that contain 50% or greater, but less than 99.8% primary magnesium, by weight, and that do not conform to ASTM specifications for alloy magnesium (generally referred to as “off-specification pure” magnesium).

“Off-specification pure” magnesium is pure primary magnesium containing magnesium scrap, secondary magnesium, oxidized magnesium or impurities (whether or not intentionally added) that cause the primary magnesium content to fall below 99.8% by weight. It generally does not contain, individually or in combination, 1.5% or more, by weight, of the following alloying elements: aluminum, manganese, zinc, silicon, thorium, zirconium and rare earths.

Excluded from the scope of the order are alloy primary magnesium (that meets specifications for alloy magnesium), primary magnesium anodes, granular primary magnesium (including turnings, chips and powder) having a maximum physical dimension (i.e., length or diameter) of one inch or less, secondary magnesium (which has pure primary magnesium content of less than 50% by weight), and remelted magnesium whose pure primary magnesium content is less than 50% by weight.

Pure magnesium products covered by the order are currently classifiable under Harmonized Tariff Schedule of the United States (“HTSUS”) subheadings 8104.11.00, 8104.19.00, 8104.20.00, 8104.30.00, 8104.90.00, 3824.90.11, 3824.90.19 and 9817.00.90. Although the HTSUS subheadings are provided for convenience and customs purposes, our written description of the scope is dispositive.

Rescission of the Administrative Review

Based upon the certifications and the evidence on the record, the Department finds TMI's claim of no shipments of subject merchandise to the United States during the POR to be substantiated. Pursuant to 19 CFR 351.213(d)(3), the Department may rescind an administrative review, in whole or with respect to a particular exporter or producer, if the Department concludes that, during the period covered by the review, there were no entries, exports, or sales of the subject merchandise. Because there were no entries, exports, or sales of the subject merchandise during the POR, the Department is rescinding this review in accordance with 19 CFR 351.213(d)(3). The Department intends to instruct CBP fifteen days after the publication of this notice to liquidate such entries. Antidumping duties shall be assessed at rates equal to the cash deposit of estimated antidumping duties required at the time of entry, or withdrawal from warehouse, for consumption, in accordance with 19 CFR 351.212(c)(2).

We are issuing and publishing this notice in accordance with sections 751(a)(1) and 777(i) of the Act and 19 CFR 351.213(d)(4).

Dated: August 16, 2011.
Christian Marsh,
Acting Deputy Assistant Secretary for Import Administration.

[FR Doc. 2011-21675 Filed 8-25-11; 8:45 am]

BILLING CODE 3510-DS-P